NATIONAL ARCHIVES AND RECORDS ADMINISTRATION

Privacy Act of 1974, as Amended; System of Records Notices

AGENCY: National Archives and Records Administration (NARA).

ACTION: Notice of the establishment of new privacy system of record, NARA 41.

SUMMARY: The National Archives and Records Administration (NARA) proposes to add a system of records to its existing inventory of systems subject to the Privacy Act of 1974, as amended (5 U.S.C. 552(a)) (“Privacy Act”). In this notice, NARA publishes NARA 41, the Use of Space in Presidential Libraries and Grounds Case Files.

DATES: This new system of records, NARA 41, will become effective April 13, 2011 without further notice unless comments are received that result in further revision. NARA will publish a new notice if the effective date is delayed to review comments or if changes are made based on comments received. To be assured of consideration, comments should be received on or before the date above.

ADDRESSES: You may submit comments, identified by SORN number NARA 41, by one of the following methods:

• Federal e-Rulemaking Portal: http://www.regulations.gov. Follow the instructions for submitting comments.

• Fax: 301-837-0293.

• Mail: Kimberly Keravuori, Office of Policy and Planning (NPOL), Room 4100, National Archives and Records Administration, 8601 Adelphi Road, College Park, MD 20740-6001.

FOR FURTHER INFORMATION CONTACT: Martin McGann, Office of Presidential Libraries (NL), Room 2200, National Archives and Records Administration, 8601 Adelphi Road, College Park, MD 20740-6001. Telephone: (301) 837-1962. Fax: 301-837-3199.

SUPPLEMENTARY INFORMATION: Section 2112 of title 44 of the United States Code permits the Archivist of the United States to maintain, operate, and protect land, facilities and equipment as Presidential archival depositories within the national archives system and to make such land, facilities and equipment available for occasional, non-official uses.

The notice for this system of records states the name and the location of the record system, the authority for and manner of its operation, the categories of individuals that it covers, the types of records that it contains, the sources of information in the records, and the proposed “routine uses” of the system of records. The notice also includes the business address of the NARA official who will inform interested persons of the procedures whereby they may gain access to, and correct, records pertaining to themselves.

One of the purposes of the Privacy Act, as stated in section 2(b)(4) of the Act, is to provide certain safeguards for an individual against an invasion of personal privacy by requiring Federal agencies to disseminate any record of identifiable personal information in a manner that assures that such action is for a necessary and lawful purpose, that the information is current and accurate for its intended use, and that adequate safeguards are provided to prevent misuse of such information. NARA intends to follow these principles in transferring information to another agency or individual as a “routine use” including assurance that the information is relevant for the purposes for which it is transferred.

Dated: March 10, 2011.
David S. Ferriero,
Archivist of the United States.

NARA Privacy Act Systems: NARA 41

SYSTEM NAME:

The Use of Space in Presidential Libraries and Grounds Case Files.

SYSTEM LOCATION:

The Case Files are maintained at the Presidential Library that received the request for use. Presidential Library addresses are located at http://www.archives.gov/locations/.

CATEGORIES OF INDIVIDUALS COVERED BY THE SYSTEM:

Individuals covered by this system include persons who request permission to use Presidential Libraries and Grounds and persons sponsoring, promoting, conducting or having supervision over activities associated with such requested uses.

CATEGORIES OF RECORDS IN THE SYSTEM:

The Case Files include: applications, correspondence, supporting documents, research, and other administrative forms used in the process. Case files may contain some or all of the following information: names, addresses, telephone numbers, e-mail addresses, credit card information, copies of documents furnished to the requester, and any additional information provided by the requester.

AUTHORITY FOR MAINTENANCE OF THE SYSTEM:

5 U.S.C. 552a(a)(3), as amended.

44 U.S.C. 2104(a), as amended.

ROUTINE USES OF RECORDS MAINTAINED IN THE SYSTEM, INCLUDING CATEGORIES OF USERS AND THE PURPOSES OF SUCH USES:

NARA maintains the application forms and related information concerning applicants and other persons of record, actions taken on requests, and schedules and status information concerning approved events.

POLICIES AND PRACTICES FOR STORING, RETRIEVING, ACCESSING, RETAINING, AND DISPOSING OF RECORDS IN THE SYSTEM:

STORAGE:

Paper and electronic records.

RETRIEVABILITY:

Information in these case files may be retrieved by the name or date of the event.

SAFEGUARDS:

The case files are at all times maintained in buildings with secured doors. During business hours records are accessible only by authorized NARA personnel. Electronic records are accessible via passwords from terminals located in attended offices. After business hours, or when NARA personnel are not present in the offices, the paper records are secured in locked filing cabinets.

RETENTION AND DISPOSAL:

NARA case files are temporary records and are destroyed in accordance with the disposition instructions in the NARA Records Schedule supplement to FILES 203, the NARA Files Maintenance and Records Disposition Manual. Individuals may request a copy of the disposition instructions from the NARA Privacy Act Officer.

SYSTEM MANAGER(S) AND ADDRESS:

For these case files, the system manager is Martin F. McGann, Office of Presidential Libraries (NL), Room 2200, National Archives and Records Administration, 8601 Adelphi Road, College Park, MD 20740-6001. Telephone: (301) 837-1962. Fax: 301-837-3199.

NOTIFICATION PROCEDURE:

Individuals interested in inquiring about their records should notify the NARA Privacy Act Officer, Office of General Counsel (NGC), Room 3110, National Archives and Records Administration, 8601 Adelphi Road, College Park, MD 20740-6001.

RECORD ACCESS PROCEDURES:

Individuals who wish to gain access to their records should submit their request in writing to the NARA Privacy Act Officer at the address listed above.

CONTESTING RECORD PROCEDURES:

NARA rules for contesting the contents and appealing initial determinations are found in 36 CFR part 1202.

RECORD SOURCE CATEGORIES:

Information in these case files is obtained from persons who request use of the Presidential Libraries and Grounds and persons sponsoring, promoting, conducting or having supervision over activities associated with such requested uses.

[FR Doc. 2011-5986 Filed 3-11-11; 8:45 am]

BILLING CODE 7515-01-P